FEDERAL COMMUNICATIONS COMMISSION

47 CFR Part 73

[DA 01-880; MM Docket No. 01-89; RM-10094]

Television Broadcasting Services; Decatur, Plano, TX

AGENCY: Federal Communications Commission.

ACTION: Proposed rule.

SUMMARY: The Commission requests comments on a petition for rule making filed by Word of God Fellowship, Inc. (“petitioner”), requesting the reallotment of Television Channel 29 from Decatur to Plano, Texas as the community's first local transmission service. Petitioner is asked to provide additional information in support of the requested reallotment, specifically, an analysis of the Urbanized Areas involved using the Commission's relevant cases, and a showing that the companion digital channel at Decatur should also be reallotted to Plano. Channel 29 can be reallotted from Decatur to Plano in compliance with the Commission's minimum distance separation requirements at the petitioner's requested site, at coordinates 32-52-16 NL and 96-55-22 WL31-06-18 North Latitude and 91-54-26 West Longitude.

DATES: Comments must be filed on or before June 4, 2001, and reply comments on or before June 19, 2001.

ADDRESSES: Secretary, Federal Communications Commission, Washington, DC 20554. In addition to filing comments with the FCC, interested parties should serve the petitioner, as follows: Robert L. Olender, 5335 Wisconsin Avenue, NW., Suite 300, Washington, DC 20015-2003 (Counsel to Petitioner).

FOR FURTHER INFORMATION CONTACT: Victoria M. McCauley, Mass Media Bureau, and (202) 418-2180.

SUPPLEMENTARY INFORMATION: This is a synopsis of the Commission's Notice of Proposed Rule Making, MM Docket No. 01-89 adopted March 28, 2001 and released April 13, 2001. The full text of this Commission decision is available for inspection and copying during normal business hours in the FCC Reference Information Center (Room CY-A257), 445 12th Street, SW, Washington, DC. The complete text of this decision may also be purchased from the Commission's copy contractor, International Transcription Service, Inc., (202) 857-3800, 1231 20th Street, NW., Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.606 [Amended]

2. Section 73.606(b), the Table of FM Allotments under Texas, is amended by removing Decatur, Channel 29, and adding Plano, Channel 29.

Federal Communications Commission.
John A. Karousos,
Chief, Allocations Branch, Policy and Rules Division, Mass Media Bureau.

[FR Doc. 01-10699 Filed 4-30-01; 8:45 am]

BILLING CODE 6712-01-P